DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by September 6, 2023 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number, and the agency informs potential persons who are to respond to the collection of information that such persons are not required to respond to the collection of information unless it displays a currently valid OMB control number.

Animal and Plant Health Inspection Service

Title: Federal Recognized State Managed Phytosanitary Program.

OMB Control Number: 0579-0365.

Summary of Collection: Under the Plant Protection Act (7 U.S.C. 7701-7772), the Secretary of Agriculture is authorized to prohibit or restrict the importation, entry, or movement of plants and plant pests to prevent the introduction of plant pests into the United States or their dissemination within the United States. The Animal and Plant Health Inspection Service (APHIS), Plant Protection and Quarantine (PPQ), has established the following procedures for States (through the National Plant Board (NPB)) to petition the Agency to recognize State-level plant pest regulations and associated action taken as meeting the international criteria for official control and accepted measures to protect areas that would be economically or environmentally endangered by the introduction of a pest. The International Plant Protection Convention (IPPC) defines “official control” as the active enforcement of mandatory phytosanitary regulations and the application of mandatory phytosanitary procedures with the objective of eradication or containment of quarantine pests or for the management of regulated non-quarantine pests.

Need and Use of the Information: APHIS developed criteria by which petitions will be evaluated and status will be granted. APHIS/PPQ and the Department of Homeland Security (DHS), Customs and Border Protection (CBP), take action on imported products when quarantine pests are found upon inspection. Quarantine pests include those that pose a risk to agriculture or the environment but: (1) do not exist in the United States, (2) exist in the United States but are under Federal domestic quarantine under 7 CFR 301 or by Federal Order, (3) exist in the United States but were recently detected and whose regulatory status is under consideration, or (4) exist in the United States but are under State-level quarantine that has been approved by APHIS as providing a level of protection equivalent to a Federal domestic quarantine. APHIS has taken action on pests that meet the fourth criteria for years based on informal requests by States in the interest of supporting our State cooperators and industries within those States and this program/information collection aims to standardize this process. Without this information, APHIS would be less effective in establishing procedures that are used to contain regulated plant pests within the United States. If this information was not collected or collected less frequently, APHIS would be less effective in establishing procedures that are used to contain regulated plant pests within the United States.

Description of Respondents: State, local, or Tribal government.

Number of Respondents: 1.

Frequency of Responses: Reporting: Annually.

Total Burden Hours: 243.

Ruth Brown,
Departmental Information Collection Clearance Officer.

[FR Doc. 2023-16845 Filed 8-4-23; 8:45 am]

BILLING CODE 3410-34-P